DEPARTMENT OF AGRICULTURE

Rural Housing Service

Rural Business-Cooperative Service

Rural Utilities Service

Farm Service Agency

Notice of Request for Extension of a Currently Approved Information Collection

AGENCY: Rural Housing Service, Rural Business-Cooperative Service, Rural Utilities Service, and Farm Service Agency, USDA.

ACTION: Proposed collection: comments request.

SUMMARY: In accordance with the Paperwork Reduction Act of 1995, this notice announces the Rural Housing Service (RHS), the Rural Business-Cooperative Service (RBS), Rural Utilities Service (RUS), and the Farm Service Agency's (FSA) intention to request an extension for a currently approved information collection in support of compliance with Civil Rights laws.

DATES: Comments on this notice must be received by January 7, 2002 to be assured of consideration.

FOR FURTHER INFORMATION CONTACT: Jacqueline Micheli, Equal Opportunity Specialist, Rural Development, U.S. Department of Agriculture, STOP 0703, 1400 Independence Ave., SW., Washington, DC 20250-0703, Telephone (202) 692-0099 (voice) or 692-0305 (TDD).

SUPPLEMENTARY INFORMATION: Title: 7 CFR 1901-E, Civil Rights Compliance Requirements.

OMB Number: 0575-0018.

Expiration Date: February 28, 2002.

Type of Request: Extension of an information collection.

Abstract: The information collection under OMB Number 0575-0018 enables the RHS, RBS, RUS, and FSA to effectively monitor a recipient's compliance with the civil rights laws, and to determine whether or not service and benefits are being provided to beneficiaries on an equal opportunity basis.

The RBS, RHS, RUS, and FSA, formerly the Farmers Home Administration, are required to provide Federal financial assistance through its farmer, housing, and community and business programs on an equal opportunity basis. The laws implemented in 7 CFR part 1901, subpart E (“1901-E”), require the recipients of RBS, RHS, RUS, and FSA's Federal financial assistance to collect various types of information, including information on participants in certain of these agencies' programs, by race, color, and national origin. While these agencies realize that the provisions of 1901-E are outdated as the result of statutory amendment and other processes of law, the information needed to be collected under this implementing regulation is not affected by the obsolete nature of the regulation. The RBS, RHS, RUS, and FSA use the information to monitor a recipient's compliance with the civil rights laws, and to determine whether or not service and benefits are being provided to beneficiaries on an equal opportunity basis. The agencies are in the process of revising 1901-E, and expect to publish for comment a Federal Register document proposing these revisions in 2002. The following laws are implemented in 7 CFR 1901-E:

a. Title VI of the Civil Rights Act of 1964 (“Title VI”). The implementing regulations for this Act issued by the Department of Justice and the Department of Agriculture requires recipients of RBS’, RHS’ RUS’ and FSA's program assistance to collect information on the race/national origin of the beneficiaries of their specific programs. This information is used by the RBS, RHS, RUS, and FSA for compliance review and monitoring purposes for Title VI.

b. Title VIII of the Civil Rights Act of 1968 (as amended) (“Title VIII). Section 808a of Title VIII (42 U.S.C. 3608a (1988)), in pertinent part, requires the Secretary of Agriculture to collect racial and ethnic data on beneficiaries and recipients of USDA housing programs. Furthermore, the implementing regulations issued by the Department of Housing and Urban Development (“HUD”) and adopted by the RBS, RHS, RUS, and FSA, requires recipients and other participants in RHS's housing programs affirmatively to further fair housing by providing housing and the opportunity to acquire housing in a non-discriminatory fashion. One way to demonstrate compliance with Title VIII is to prepare affirmative fair housing marketing plans, and to collect and maintain data to reflect compliance with the requirements of that plan. Furthermore, under the Memorandum of Understanding between HUD and USDA, many complaints of fair housing violation by USDA recipients will be processed by HUD. The collection and maintenance of these data will assist in this enforcement effort.

c. Executive Order 11246. The implementing regulations issued by the Department of Labor (DOL) and adopted by the RBS, RHS, RUS, and FSA, require recipients of Federally assisted construction contracts of $10,000 or more to maintain goals for hiring minorities and females, and to submit employment utilization reports to the DOL's Office of Federal Contract Compliance Programs.

The information collected and maintained by the recipients of certain programs from RBS, RHS, RUS, and FSA is used internally by these agencies for monitoring compliance with the civil rights laws and regulations. This information is made available to USDA officials, officials of other Federal agencies, and to Congress for reporting purposes. Without the required information, RBS, RHS, RUS, FSA and its recipients will lack the necessary documentation to demonstrate that their programs are being administered in a nondiscriminatory manner and in full compliance with the civil rights laws. In addition, the RBS, RHS, RUS, and FSA, and their recipients would be vulnerable in lawsuits alleging discrimination in the affected programs of these agencies and would be without appropriate data and documentation to defend themselves by demonstrating that services and benefits are being provided to beneficiaries on an equal opportunity basis.

Estimate of Burden: The public reporting burden for this collection of information is estimated to average 5.57 hours per response.

Respondents: Recipients of RBS, RHS, RUS, and FSA's Federal financial assistance, loan, and loan guarantee programs.

Estimated Number of Respondents: 19,565.

Estimated Number of Responses per Respondent: 4.50.

Estimated Number of Responses: 88,165.

Estimated Total Annual Burden on Respondents: 491,517.

Copies of this information collection can be obtained from Richard Gartman, Regulations and Paperwork Management Branch, Support Services Division, at (202) 692-0038.

Comments

Comments are invited on: (a) Whether the proposed collection of information is necessary for the proper performance of the functions of the Rural Development, including whether the information will have practical utility; (b) the accuracy of the Agencies' estimate of the burden of the proposed collection of information including the validity of the methodology and assumptions used; (c) ways to enhance the quality, utility and clarity of the information to be collected; and (d) ways to minimize the burden of the collection of information on those who are to respond, including through the use of appropriate automated, electronic, mechanical, or other technological collection techniques or other forms of information technology. Comments may be sent to Richard Gartman, Regulations and Paperwork Management Branch, Support Services Division, U.S. Department of Agriculture, Rural Development, Ag Box 0742, Washington, DC 20250. All responses to this notice will be summarized and included in the request for OMB approval. All comments will also become a matter of public record.

Dated: September 10, 2001.
Michael E. Neruda,
Acting Deputy Under Secretary, Rural Development.
Dated: September 21, 2001.
J.B. Penn,
Under Secretary, Farm and Foreign Agricultural Services.

[FR Doc. 01-27877 Filed 11-7-01; 8:45 am]

BILLING CODE 3410-XT-U